DEPARTMENT OF HOMELAND SECURITY

Agreement Between the Government of the United States of America and the Government of the Republic of Guatemala Relating to the Transfer of Nationals of Central American Countries to Guatemala

AGENCY: Department of Homeland Security.

ACTION: Notice of agreement.

SUMMARY: The Department of Homeland Security is publishing the Agreement between the Government of the United States of America and the Government of the Republic of Guatemala relating to the transfer of nationals of Central American countries to Guatemala, effected by exchange of diplomatic notes on June 11 and 13, 2025. The text of the diplomatic notes is set out below.

Joseph N. Mazzara,
Acting General Counsel, U.S. Department of Homeland Security.

BILLING CODE 9110-9M-P

[FR Doc. 2025-13216 Filed 7-14-25; 8:45 am]

BILLING CODE 9110-9M-C